ELECTION ASSISTANCE COMMISSION

Sunshine Act Notice

AGENCY: United States Election Assistance Commission.

ACTION: Notice of public meeting (amended).

DATE AND TIME: Thursday, December 7, 2006, 10 a.m.-3:30 p.m.

PLACE: U.S. Election Assistance Commission, 1225 New York Ave, NW., Suite 150, Washington, DC 20005. (Metro Stop: Metro Center).

AGENDA: The Commission will receive presentations on public comments received for the DRAFT Procedural Manual for Voting System Testing and Certification Program and the proposed final document will be considered for approval. The Commission will receive presentations from election officials, community interest groups, academicians and technology experts regarding the 2006 election. The Commission will elect officers for 2007 and consider other administrative matters. In addition, the Commission will consider the adoption of a voter fraud and intimidation report and the adoption of an administrative policy and procedures manual.

This meeting will be open to the public.

PERSON TO CONTACT FOR INFORMATION: Bryan Whitener, Telephone: (202) 566-3100.

Donetta L. Davidson,
Commissioner, U.S. Election Assistance Commission.

[FR Doc. 06-9547 Filed 12-1-06; 1:22 pm]

BILLING CODE 6820-KF-M